FEDERAL COMMUNICATIONS COMMISSION

47 CFR Part 54

[WC Docket No. 13-184, WC Docket No. 21-31; Report No. 3228; FR ID 320310]

Petition for Reconsideration of Action in Rulemaking Proceeding

AGENCY: Federal Communications Commission.

ACTION: Petition for reconsideration.

SUMMARY: Petition for Reconsideration (Petition) has been filed in the Commission's proceeding by Enrique Gallardo on behalf of California Public Utilities Commission.

DATES: Oppositions to the Petition must be filed on or before December 19, 2025. Replies to oppositions to the Petition must be filed on or before December 29, 2025.

ADDRESSES: Federal Communications Commission, 45 L Street NE, Washington, DC 20554.

FOR FURTHER INFORMATION CONTACT: Kate Dumouchel, Telecommunications Access Policy Division, Wireline Competition Bureau, at kate.dumouchel@fcc.gov or 202-418-1839.

SUPPLEMENTARY INFORMATION: This is a summary of the Commission's document, Report No. 3228, released November 26, 2025. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Addressing the Homework Gap through the E-Rate Program (WC Docket No. 21-31); Modernizing the E-Rate Program for Schools and Libraries (WC Docket No. 13-184).

Number of Petitions Filed: 1.

Federal Communications Commission.
Marlene Dortch,
Secretary, Office of the Secretary.

[FR Doc. 2025-21930 Filed 12-3-25; 8:45 am]

BILLING CODE 6712-01-P